DEPARTMENT OF AGRICULTURE

Forest Service

Proposed New Fee Site: Conecuh Shooting Range

AGENCY: Forest Service, USDA.

ACTION: Notice of Proposed New Fee Site.

SUMMARY: The National Forests in Alabama are proposing to charge a new fee at the Conecuh Shooting Range. Fees are assessed based on the level of amenities and services provided, cost of operation and maintenance, market assessment and public comment. Funds from fees would be used for the continued operation and maintenance of this shooting range including lead abatement, berm maintenance, and removal of shell casings and debris. The proposed new fees to help maintain this site would be: $5 per person per day and $50 for an annual permit.

DATES: Send any comments about these fee proposals by August 15, 2019, so comments can be compiled, analyzed and shared with a Recreation Resource Advisory Committee. New fees would begin after December 2019.

ADDRESSES: Cherie Hamilton, Forest Supervisor, National Forests in Alabama, 2946 Chestnut Street Montgomery, Alabama 36107; or via facsimile 334-241-8111.

FOR FURTHER INFORMATION CONTACT: Odell Sanders, Recreation, Engineering, Lands & Minerals Staff Officer, 334-241-8128. Information about proposed fee changes can also be found on the National Forests of Alabama website: http://www.fs.usda.gov/alabama.

SUPPLEMENTARY INFORMATION: The Federal Recreation Lands Enhancement Act (Title VII, Pub. L. 108-447) directed the Secretary of Agriculture to publish a six-month advance notice in the Federal Register whenever new recreation fee areas are established. Once public involvement is complete, these new fees will be reviewed by a Recreation Resource Advisory Committee prior to a final decision and implementation.

Dated: July 8, 2019.
Richard A. Cooksey,
Acting Associate Deputy Chief, National Forest System.

[FR Doc. 2019-17015 Filed 8-7-19; 8:45 am]

BILLING CODE 3411-15-P